DEPARTMENT OF ENERGY

Federal Energy Regulatory Commission

[Docket No. RP00-425-007]

Southern Star Central Gas Pipeline, Inc.; Notice of Negotiated Rate

September 7, 2004.

Take notice that on September 1, 2004, Southern Star Central Gas Pipeline, Inc. (Southern Star) tendered for filing copies of a negotiated rate agreement between Southern Star and Empire District Electric Co. (Empire) in accordance with section 31 of Southern Star's General Terms and Conditions and its negotiated rate authority as granted by the Commission in Docket No. RP00-425.

Southern Star states that the negotiated rate agreement between Southern Star and Empire relates to a negotiated rate transaction under Rate Schedule FTS-M applicable for the transportation of gas to Empire as it relates to facilities authorized and constructed in Docket No. CP02-426.

Southern Star states that a copy of the revised tariff sheet is being mailed to all of Southern Star's jurisdictional customers and interested State commissions.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on the Applicant and any party to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-2170 Filed 9-13-04; 8:45 am]

BILLING CODE 6717-01-P